SECURITIES AND EXCHANGE COMMISSION

[Release Nos. 33-8619; 34-52522, File No. 265-23]

Advisory Committee on Smaller Public Companies; Meeting

AGENCY: Securities and Exchange Commission.

ACTION: Notice of Meeting of SEC Advisory Committee on Smaller Public Companies.

The Securities and Exchange Commission Advisory Committee on Smaller Public Companies is providing notice that it will hold a public meeting on Friday, October 14, 2005, at Columbia Law School, Jerome Green Hall, Room 103, 435 West 116th Street, New York, New York, at 1 p.m. The meeting will be audio webcast on the Commission's Web site at http://www.sec.gov.

The agenda for the meeting includes hearing oral testimony, primarily from investors in small cap companies, and considering written statements that have been filed with the Advisory Committee in connection with the meeting.

Due Date: Written statements should be received on or before October 7, 2005.

ADDRESSES: Written statements may be submitted by any of the following methods:

Electronic Statements

• Use the Commission's Internet submission form (http://www.sec.gov/info/smallbus/acspc.shtml); or

• Send an e-mail message to rule-comments@sec.gov. Please include File Number 265-23 on the subject line; or

Paper Statements

• Send paper statements in triplicate to Jonathan G. Katz, Committee Management Officer, Securities and Exchange Commission, 100 F Street, NE, Washington, DC 20549-9303.

All submissions should refer to File No. 265-23. This file number should be included on the subject line if e-mail is used. To help us process and review your statement more efficiently, please use only one method. The Commission staff will post all statements on the Advisory Committee's Web site (http://www.sec.gov./info/smallbus/acspc.shtml).

Statements also will be available for public inspection and copying in the Commission's Public Reference Room, 100 F Street, NE., Washington, DC 20549. All statements received will be posted without change; we do not edit personal identifying information from submissions. You should submit only information that you wish to make available publicly.

Persons wishing to provide oral testimony at the meeting should contact the SEC staff person listed below by October 7, 2005 and submit a written statement by the deadline for written statements. Sufficient time may not be available to accommodate all those wishing to provide oral testimony. The Co-Chairs of the Advisory Committee have reserved the right to select and limit the time of witnesses permitted to testify at the Advisory Committee meeting.

FOR FURTHER INFORMATION CONTACT: Kevin M. O'Neill, Special Counsel, at (202) 551-3260, Office of Small Business Policy, Division of Corporation Finance, Securities and Exchange Commission, 100 F Street, NE., Washington, DC 20549-3628.

SUPPLEMENTARY INFORMATION: In accordance with Section 10(a) of the Federal Advisory Committee Act, 5 U.S.C.-App. 1, section 10(a), and the regulations thereunder, Gerald J. Laporte, Designated Federal Officer of the Committee, has ordered publication of this notice.

Dated: September 28, 2005.
Jonathan G. Katz,
Committee Management Officer.

[FR Doc. 05-19802 Filed 9-29-05; 12:26 pm]

BILLING CODE 8010-01-P